DEPARTMENT OF HEALTH AND HUMAN SERVICES

Indian Health Service

Organization, Functions, and Delegations of Authority; Part G; Indian Health Service

Part G, of the Statement of Organization, Functions, and Delegations of Authority of the Department of Health and Human Services (HHS), as amended at 70 FR 24087, May 6, 2005, as amended at 75 FR 38112, July 1, 2010, and most recently as amended at 79 FR 65671, November 5, 2014, is hereby amended to reflect a reorganization of the Indian Health Service (IHS) Headquarters (HQ).

The IHS proposes a reorganization at IHS HQ to strengthen operations and oversight responsibilities to ensure quality health care by establishing an Office of Quality.

Delete the functional statements for the IHS HQ Office of the Director, Office of Clinical and Preventive Services, and Office of Management Services, and replace with the following revised statements, which includes a new Office of Quality:

Chapter GA—Office of the Director

Section GA-10, Indian Health Service—Organization

The IHS is an Operating Division within the Department of Health and Human Services (HHS) and is under the leadership and direction of a Director who is directly responsible to the Secretary of Health and Human Services. The IHS Headquarters is proposing to reorganize the following major components: Office of the Director (GA), Office of Clinical and Preventive Services (GAF), Office of Management Services (GAL), and the Office of Quality (OQ).

Section GA-20, Indian Health Service—Functions

Office of the Director (OD) (GA)

Provides overall direction and leadership for the IHS: (1) Establishes goals and objectives for the IHS consistent with the mission of the IHS and ensures agency performance is managed through goals/objectives, achievements, and/or improved outcomes; (2) provides for the full participation of Indian tribes in the programs and services provided by the Federal Government; (3) develops health care policy; (4) ensures the delivery of quality comprehensive health services; (5) advocates for the health needs and concerns of American Indians/Alaska Natives (AI/AN); (6) promotes the IHS programs at the local, state, national, and international levels; (7) develops and demonstrates alternative methods and techniques of health services management and delivery with maximum participation by Indian tribes and Indian organizations; (8) supports the development of individual and tribal capacities to participate in Indian health programs through means and modalities that they deem appropriate to their needs and circumstances; (9) the IHS will carry out the responsibilities of the United States to Indian tribes and individual Indians; (10) affords Indian people an opportunity to enter a career in the IHS by applying Indian preference; (11) ensures full application of the principles of Equal Employment Opportunity laws and the Civil Rights Act in managing the human resources of the IHS; and (12) participates in cross-cutting issues and processes, including but not limited to, emergency preparedness/security, quality assurance, internal controls, recruitment, budget formulation, self-determination issues, and resolution of audit findings as may be needed and appropriate.

Congressional and Legislative Affairs Staff (CLAS) (GA1)

(1) Serves as the principal advisor to the IHS Director on all legislative and congressional relations matters; (2) advises the IHS Director and other IHS officials on the need for changes in legislation and manages the development of IHS legislative initiatives; (3) serves as the IHS liaison office for congressional and legislative affairs with Congressional offices, the HHS, the Office of Management and Budget (OMB), the White House, and other federal agencies; (4) tracks all major legislative proposals in the Congress that would impact Indian health; (5) ensures that the IHS Director and appropriate IHS and HHS officials are briefed on the potential impact of proposed legislation; (6) develops legislative strategy for key policy and legislative initiatives; (7) provides technical assistance and advice relative to the effect that initiatives/implementation would have on the IHS; (9) provides support and collaborates with the Office of Finance and Accounting relative to IHS appropriations efforts; (10) directs the development of IHS briefing materials for congressional hearings, testimony, and bill reports; (11) analyzes legislation for necessary action within the IHS; (12) develops appropriate legislative implementation plans; (13) serves as the IHS liaison office to the Government Accountability Office (GAO) and Office of Inspector General (OIG); (14) except for personnel matters, coordinates the development, clearance, and transmittal of IHS responses and follow-up to reports issued by the OIG, the GAO, and other federal internal and external authorities; and (15) coordinates with IHS HQ and Area Offices as appropriate to provide leadership, advocacy, and technical support to respond to requests from the public, including tribal governments, tribal organizations, and Indian community organizations regarding IHS legislative issues.

Executive Secretariat Staff (ESS) (GA2)

(1) Manages the processing of executive correspondence and related information to the IHS Director from tribes and tribal governments, tribal organizations, and Urban Indian organizations, federal departments and agencies, Congress and congressional staff offices, attorneys, patients, schools, universities, employees, grantees, contractors, and the general public; (2) reviews and monitors correspondence received by the IHS Director and assigns reply or follow-up action to appropriate IHS HQ program offices and IHS Area Offices; (3) ensures the quality (responsiveness, clarity, and substance) of IHS-generated correspondence prepared for the IHS Director's signature by coordinating the review of integrity and policy issues, and performing standard edits and revisions; (4) reviews and coordinates clearance of decision documents for the IHS Director's approval to ensure successful operations and policy-making within the agency; (5) assists IHS officials as they prepare documents for the HHS Secretary's review, decision, and/or signature; (6) serves as the agency's liaison with the HHS Office of the Secretary's Executive Secretariat on IHS program, policy, and special matters; (7) performs special writing assignments for the IHS Director; (8) maintains official records of the IHS Director's correspondence and conducts topic research of files, as needed; (9) oversees an electronic document handling system to assist in managing the timely processing of internal and external executive correspondence; (10) conducts training to promote conformance by IHS HQ and Area staff to the IHS Executive Correspondence Guidelines; (11) tracks reports required by Congress; and (12) manages the IHS review of non-IHS regulatory documents that impact the delivery of health services to Indians.

Diversity Management and Equal Employment Opportunity Staff (DMEEOS) (GA3)

(1) Administers the IHS equal employment opportunity, civil rights, and affirmative action and Alternative Dispute Resolution programs, in accordance with applicable laws, regulations, and HHS policies; (2) plans and oversees the implementation of IHS affirmative employment and special emphasis programs; (3) reviews data and advises IHS managers of possible discriminatory trends; (4) ensures immediate implementation of required actions on complaints of alleged sexual harassment or discrimination; (5) decides on accepting, for investigation, or dismissing discrimination complaints and evaluates accepted complaints for procedural sufficiency and investigates and resolves complaints; (6) evaluates accepted formal complaints of discrimination for procedural sufficiency and adjudicates and resolves complaints; and (7) develops/administers equal employment opportunity education and training programs for IHS managers, supervisors, counselors, and employees.

Public Affairs Staff (PAS) (GA4)

(1) Serves as the principal advisor for strategic planning on communications, media relations, and public affairs policy formulation and implementation; (2) ensures IHS policy is consistent with directives from the HHS Assistant Secretary for Public Affairs; (3) provides leadership and advocacy to establish and implement policy for internal and external dissemination of agency information intended for public release or employee and stakeholder information; (4) serves as the central office for technical guidance and assistance to IHS staff for the development of public affairs and media communication; (5) coordinates public affairs activities with other public and private sector organizations; (6) coordinates the clearance of IHS public relations activities, campaigns, and communications materials; (7) represents the IHS in discussions regarding policy and public affairs initiatives/implementation; (8) provides technical assistance and advice relative to the effect public affairs initiatives/implementation would have on the IHS; (9) collaborates with the Division of Regulatory and Policy Coordination, for review and response to media requests received under the Freedom of Information Act (FOIA) or the Privacy Act, and ensures the security of IHS documents used in such responses that contain sensitive and/or confidential information; and (10) serves as the IHS liaison office for press and public affairs activities with HHS, IHS Area Offices, media and other external organizations and representatives.

Office of Clinical and Preventive Services (OCPS) (GAF)

(1) Advises the IHS Director and Chief Medical Officer on clinical, preventive, and public health programs for the IHS, Area Offices, and Service Units; (2) serves as the primary source of national advocacy, policy development, budget development and allocation for these programs; (3) provides leadership in articulating the clinical, preventive, and public health needs of AI/AN, including consultation and technical support to clinical and public health programs and coordination with the Office of Quality to ensure quality standards are met for all clinical, preventive and public health programs; (4) develops, manages, and administers program functions that include, but are not limited to, oral health, medicine, telehealth, alcohol and substance use prevention and treatment, mental health, suicide prevention, domestic and sexual violence, behavioral health integration, Youth Regional Treatment Centers, dental services, forensic nursing services, medical services, Health Promotion/Disease Prevention, pharmacy and pharmaceutical acquisition, community health representatives (CHRs), emergency medical services, health records, disabilities, Human Immunodeficiency Virus/Acquired Immune Deficiency Syndrome (HIV/AIDS), maternal health, child health, clinical nursing, public health nursing, men's health, women's health, nutrition and dietetics, elder care, cancer prevention and treatment; and chronic diseases such as diabetes, asthma, hypertension, and obesity; (5) leads and coordinates tribal consultation and urban Indian confer sessions for clinical and preventive health topics, funding, and other priority areas; (6) investigates service delivery and community prevention evidence-based and best practice models for dissemination to community service locations; (7) expands the availability of resources available for AI/AN health by working with public and private entities as well as federal agencies within and outside the HHS; (8) coordinates development of staffing requirements for new or replacement health care facilities and approves Congressional budget requests for staffing, in collaboration with the Office of Environmental Health and Engineering; (9) provides clinical oversight and direction for the health facilities planning process; (10) develops and coordinates various grant programs; (11) provides the national focus for recruitment and retention of health professionals and coordinates with the scholarship and loan repayment programs; (12) works with the Purchased/Referred Care (PRC) program on PRC denial appeals to the IHS Director and in determining PRC medical priorities; (13) works with the Office of Human Resources in managing the clinical aspects of the IHS workers' compensation claims; (14) monitors approximately one-half of the IHS's Government Performance and Results Act (GPRA) indicators, overseeing indicator development, data collection, and reporting results; (15) responds to tribal, Departmental, and Congressional inquiries; and (16) participates in cross-cutting issues and processes, including but not limited to, emergency preparedness/security, quality assurance, internal controls, recruitment, budget formulation, self-determination issues, and resolution of audit findings as may be needed and appropriate.

Division of Behavioral Health (DBH) (GAFA)

(1) Manages, develops, and coordinates comprehensive clinical, preventive, and community-based programs for mental health, social work, and alcohol and substance abuse focused on: Prevention, treatment, training, technical assistance, evaluation, quality improvement, data collection, trauma informed care, Native youth programming, recovery services, suicide prevention, tele-behavioral health, behavioral health integration, Youth Regional Treatment Centers; (2) provides, develops, and implements IHS guidelines, standards, policies, and procedures for professional and program standards related to behavioral health services, including maintenance of existing or development of new relevant chapters in the Indian Health Manual; (3) monitors, measures, and evaluates the quality of behavioral health programs to improve the effectiveness and efficacy of behavioral health programs including the development of behavioral health budget materials for resource management, program data collection, behavioral health-related GPRA measures, administrative system integrity and accountability; (4) coordinates behavioral health professional staff recruitment and training needs by serving as a subject matter expert for the American Indians into Psychology, scholarship, and loan repayment assignments to meet Area Office, Service Unit, and tribal health professional human resource needs; (5) develops and monitors behavioral health contracts and grants with IHS programs and other entities, in collaboration with the Division of Acquisition Policy and the Division of Grants Management; (6) develops and disseminates IHS behavioral health program information and materials to IHS facilities and to tribes and Urban Indian organizations including the dissemination of culturally appropriate and traditional best practices in behavioral health; (7) leads and coordinates the National Tribal Advisory Committee on Behavioral Health; (8) partners with tribes and urban Indian organizations on the evaluation of health outcomes of clinical and community behavioral health services; (9) develops, coordinates, and maintains public and private professional partnerships with philanthropies, universities, community-based, and faith-based organizations to promote training, resources, and technical assistance to expand, leverage, increase access to, and coordinate behavioral health resources and services outside of the typical health care setting; (10) manages the operation of direct behavioral health services provided through the Tele-Behavioral Health Center of Excellence; (11) provides continuing education for behavioral health providers, nurses, pharmacists, physicians, and other health care providers and paraprofessionals on current and pressing behavioral health clinical issues; and (12) provides financial resources and programmatic oversight for complying with the Americans With Disabilities Act through programs such as the Indian Children's Program that focus on autism spectrum disorders, fetal alcohol spectrum disorders, and other neurobiological disorders.

Division of Clinical and Community Services (DCCS) (GAFB)

(1) Manages, develops, and coordinates comprehensive clinical, preventive, and community-based programs using a public health approach focused on: Medicine, pharmacy and pharmaceutical acquisition, emergency medical services, CHRs, men's health, maternal and child health, cancer prevention, elder health, hepatitis C prevention and surveillance, medicine, HIV/AIDS, health records, health education, health promotion, and disease prevention; (2) develops objectives, priorities, and methodologies to conduct and evaluate clinical, preventive, and community-based programs; (3) coordinates the analysis and implementation of approaches for recognizing and supporting traditional medicine and cultural practices in the health of all AI/AN; (4) serves as the IHS HQ liaison for the IHS Chief Clinical Consultants; (5) serves as the agency's liaison and coordinating role for the American College of Obstetrics & Gynecology and Association of American Indian Physicians contracts; (6) manages the Veterans Affairs Pharmaceutical Prime Vendor Contract and IHS National Core Formulary; (7) manages the pharmacy residency program; (8) develops program budget materials for resource management, program data collection, clinical and community health-related GPRA measures, administrative system integrity and accountability; (9) applies identified profession and program standards for clinical, preventive, and community health services, including relevant chapters in the Indian Health Manual; (10) disseminates culturally appropriate clinical and community health best practices, including traditional medicine and cultural healing and disseminates this information among clinical, medical, and community health program directors, division staff, Area staff, and other agencies and institutions; and (11) manages virtual and in-person training for CHRs to ensure that basic training requirements are met for new CHRs, refresher training is available, and continuing education is provided regularly.

Division of Nursing Services (DNS) (GAFC)

(1) Plans, develops, coordinates, evaluates, manages and advocates for administrative, clinical, and public health nursing services focused on acute care, ambulatory care, breastfeeding, prevention, forensic nursing, elder care, infectious disease control and care, immunizations, and adolescent and prenatal care in AI/AN communities; (2) develops objectives, priorities, and methodologies for the conduct and evaluation of clinical, preventive, and public health nursing programs; (3) provides, develops, and implements IHS guidelines, standards, policies, and procedures related to nursing, including relevant chapters in the Indian Health Manual; (4) provides nursing staff with advanced education opportunities in the field of nursing in exchange for payback service obligations; (5) provides funding for nursing programs where junior level commissioned officers with IHS and tribal programs gain experience in nursing; (6) provides specialized training opportunities for specialized nursing experience in critical nursing shortage areas such as obstetrics, intensive care, and the operating room; (7) coordinates professional nursing staff recruitment and training needs, and loan repayment and scholarship recipient assignments and development to meet Area Office, Service Unit, and tribal health professional human resource needs; (8) develops program budget materials for resource management, program data collection, administrative system integrity and accountability; and (9) coordinates nursing quality improvement and other nurse-led initiatives on behalf of the agency, such as Relationship-Based Care and Baby-Friendly Hospitals.

Division of Oral Health (DOH) (GAFD)

(1) Develops broad-based objectives, priorities, and methodologies to evaluate dental health programs; (2) monitors personnel orders for appointments and transfers; (3) processes special pay and retention bonus contracts; (4) disseminates information to IHS, tribal, and urban (I/T/U) dental programs on issues of importance, emerging technologies, standards of care, clinical best or promising practices; (5) provides an annual budget narrative and funding justification; (6) responds to Department, tribal, and other inquiries as required; (7) develops long-term training opportunities to help fill critical dental specialty needs; (8) maintains a continuing dental education program to relay oral health standards of care, educate I/T/U dental staff, and retain a high quality oral health workforce; (9) provides recruitment information, including available positions, for I/T/U dental programs; (10) oversees an externship program to expose dental students to I/T/U dental programs; (11) works with IHS Loan Repayment, Human Resources, and Commissioned Corps to promote loan repayment, special pays, etc., to help recruit a competent, qualified oral health workforce; (12) utilizes existing workforce models, including alternative dental workforce models, to provide maximum, effective, and quality oral health care to AI/AN; (13) monitors clinical productivity, efficiency, and effectiveness of dental programs; (14) establishes standards for staffing ratios, productivity, and efficiency of dental programs; (15) maintains a centralized database of dental productivity and efficiency data; (16) develops and incorporates public health clinical standards of care and publishes clinical guidelines to support I/T/U programs; (17) promotes quality improvement through continuing education of providers on clinical best practices, incorporation of various quality models, and continuous evaluation of program quality, efficiency, and effectiveness; (18) communicates with internal and external stakeholders to provide information on oral health; (19) fosters collaborations with non-dental partners to improve the oral health of AI/AN; (20) serves as a liaison for oral health issues with other federal agencies; (21) develops resource opportunities to promote disease prevention programs; (22) evaluates programs on community-based services and oral health promotion/disease prevention; (23) promotes quality assurance/improvement principles in improving the delivery of oral health services in programs; (24) oversees clinical and preventive support centers that aid in management of oral health promotion/disease prevention programs; (25) monitors the prevalence and burden of dental disease in AI/AN; (26) educates internal and external stakeholders on disease prevalence and disparities and develops strategies for improvement; and (27) supports clinical research and demonstration projects designed to identify and promote evidence-based best practices.

Division of Diabetes Treatment and Prevention (DDTP) (GAFE)

(1) Plans, manages, coordinates, and evaluates a comprehensive clinical and community program focusing on type 2 diabetes in AI/AN communities and other related chronic conditions; (2) plans, manages, develops, coordinates, and evaluates the Congressionally-mandated Special Diabetes Program for Indians (SDPI), a large grant program focused on the prevention and treatment of diabetes; (3) coordinates requirements for and monitors program performance related to contracts and grants with IHS, tribal, Urban Indian organizations and other entities; (4) develops objectives, priorities and methodologies for the conduct of clinical and community diabetes programs; (5) monitors, evaluates, and provides consultation to clinical and community diabetes grant programs and other new initiatives; (6) provides leadership, professional guidance, and staff development to Area Diabetes Consultants and IHS, tribal, Urban diabetes program providers; (7) provides virtual and in-person trainings on diabetes clinical care, nutrition education, SDPI program management, and other topics; (8) develops and implements IHS standards of care and clinical guidelines, policies, and procedures for diabetes and diabetes-related conditions; (9) conducts an annual collection and assessment of clinical process and outcomes data for diabetes and diabetes-related conditions; (10) develops and disseminates diabetes-related information and materials to I/T/U facilities; (11) coordinates the Tribal Leaders Diabetes Committee; (12) provides annual estimates of diabetes prevalence; (13) provides national nutrition and tele-ophthalmology consultation, training, and programming; (14) coordinates and oversees the Healthy Lifestyles for Youth cooperative agreement which funds grants to provide the Together Raising Awareness for Indian Life obesity prevention program at Boys & Girls Clubs in Indian Country; and (15) is responsible for preparing budgetary data, analysis and program evaluations for budget presentations and congressional hearings.

Office of Management Services (OMS) (GAL)

(1) Advises the IHS Director on all aspects of the management of grants, acquisitions, records management, personal property, supply, and the regulations program and provides agency-wide guidance and support for these programs; (2) formulates, administers, and coordinates the review and analysis of IHS-wide policies, delegations of authority, and organizations and functions development; (3) develops and oversees the implementation of policies, procedures and delegations of authority for IHS grants management activities, including grants added to self-governance compacts; (4) ensures that IHS policies and practices for the administrative functions identified above are consistent with applicable regulations, directives and guidance from higher echelons in the HHS and other federal oversight agencies; (5) advises the IHS Director on regulatory issues related to the IHS; (6) provides overall coordination and leadership for policies, services, including the continuity of operations plans, deployment, and public health infrastructure for the IHS HQ emergency preparedness plans consistent with those of the Department of Homeland Security and the HHS, addressing the IHS mission critical elements of emergency plans; (7) provides leadership and direction of activities for continuous improvement of management accountability and administrative systems for effective and efficient program support services IHS-wide; (8) ensures the accountability and integrity of grants and acquisition management, records management, personal property utilization and disposition of IHS resources; (9) assures that the IHS OMS services, policies, procedures, and practices support IHS Indian Self-Determination Act policies; (10) oversees and coordinates the annual development and submission of the agency's federal Activities Inventory Reform Act report to the HHS; and (11) participates in cross-cutting issues and processes, including but not limited to, emergency preparedness/security, quality assurance, internal controls, recruitment, budget formulation, self-determination issues, and resolution of audit findings as may be needed and appropriate.

Division of Asset Management (DAM) (GALA)

(1) Plans, develops, and administers the IHS personal property and supply management program in conformance with federal personal property management laws, regulations, policies, procedures, practices, and standards; (2) interprets regulations and provides advice on execution and coordination of personal property and supply management policies and programs; (3) administers management systems and methods for planning, utilizing, and reporting on personal property and supply programs, including the precious metals recovery program and IHS personal property and supply accountability and control systems; (4) provides guidance and serves as principal administrative authority for IHS on federal personal property and supply management laws, regulations, policies, procedures, practices, and standards; (5) conducts surveys and studies involving evaluation and analysis of the personal property and supply management activities IHS-wide; (6) maintains liaison with the HHS and the General Services Administration (GSA) on personal property and supply management issues and programs affecting the IHS; (7) plans, develops and administers the IHS Fleet Management Program; (8) prepares reports on IHS personal property and supply management activities; and (9) administers the local HQ personal property management program to include receiving, tagging, storage and disposal in addition to conducting the annual inventory for all HQ locations.

Division of Administrative and Emergency Services (DAES) (GALB)

(1) Administers physical security, facility management, space management services, parking management, including the employee transit subsidy program, the IHS mail and commercial printing programs, and Homeland Security Presidential Directive 12 (HSPD-12) badge issuance for HQ; (2) coordinates with OIT to provide telecommunication services to HQ; (3) serves as liaison with HHS and the GSA on logistics issues affecting the IHS; (4) provides guidance and oversight to the IHS on the control and safeguard of classified national security information; (5) plans, develops and administers the IHS-wide HSPD-12 program to include providing leadership on the Physical Access Control Systems, and the Physical Security Program; (6) provides special transportation and security; (7) provides overall coordination and leadership for the IHS HQ emergency preparedness plans consistent with those of the Department of Homeland Security and the HHS, addressing the IHS mission critical elements of emergency plans; (8) provides leadership for the development of emergency preparedness plans, policies, and services, including the continuity of operations plans, deployment, and public health infrastructure; (9) coordinates IHS HQ with the IHS Area Offices activities and available resources of other government and non-government programs for essential services related to homeland security and emergency preparedness; (10) coordinates periodic national emergency preparedness exercises with the HHS and Area Offices; (11) maintains and administers the HQ emergency preparedness equipment including the office-site and alternative locations; (12) advocates for the emergency preparedness needs and concerns of AI/AN and promotes these program activities at the local, state, national, and international levels; (13) serves as an information gathering and dissemination point for local and national emergency preparedness information including situational awareness; (14) distributes key information to IHS locations on a routine and as-needed basis including federal agencies/partners; (15) provides leadership and guidance for the IHS Forms Management Program; and (16) provides leadership and coordination in the planning, development, operation, oversight, and evaluation of special office support projects for office relocations, and inter-and intra-agency activities.

Division of Acquisition Policy (DAP) (GALC)

(1) Develops, recommends, and oversees the implementation of policies, procedures and delegations of authority for the acquisition management activities in the IHS, consistent with applicable regulations, directives, and guidance from higher echelons in the HHS and federal oversight agencies; (2) advises the OMS Director, Deputy Director for Management Operations, and other senior staff of proposed legislation, regulations, and directives that affect contracting in the IHS; (3) provides leadership for compliance reviews of all IHS acquisition operations and oversees completion of necessary corrective actions; (4) administers the agency conference management policy; (5) manages for the agency, the HHS acquisition training and certification program; (6) supports and maintains the IHS Contract Information System and controls entry of data into the HHS Contract Information System; (7) serves as the IHS contact point for contract protests and the HHS contact for contract-related issues; (8) reviews and makes recommendations for approval/disapproval of contract-related documents such as: Pre- and post-award documents, unauthorized commitments, procurement planning documents, Justification for Other Than Full and Open Competition waivers, deviations, and determinations and findings that require action by the agency Head of the Contracting Activity, or the Office of the Secretary; (9) processes unsolicited proposals for the IHS; (10) coordinates the IHS Small Business programs; (11) oversees compliance with the Buy Indian Act; and (12) manages the processing of Inter- and Intra-agency agreements as well as Memoranda of Understanding.

Division of Grants Management (DGM) (GALD)

(1) Directs grants management and operations for the IHS; (2) authorizes, awards and administers discretionary grants and cooperative agreements for IHS financial assistance programs; (3) provides guidance for the resolution of audit findings for grant programs; (4) manages for the agency, the HHS grants training and certification program; (5) continuously assesses grants operations; (6) oversees implementation of corrective action plans for those entity recipients (grantees) receiving IHS discretionary grant support; (7) reviews and makes recommendations for improvements in grantee and potential grantee management systems; (8) serves as the IHS liaison to the HHS and the public for discretionary grants and cooperative agreements authorized by the IHS; (9) maintains the Catalog of Federal Domestic Assistance for IHS financial assistance programs; (10) provides guidance and limited, technical, grants-related training and assistance for IHS staff, grantees, and applicants; (11) coordinates payment to scholarship recipients; (12) serves as liaison to the Centers for Excellence (grant award system) and controls data entry into the grant award system; and (13) maintains the official, electronic grant files for funded grants.

Division of Regulatory and Policy Coordination (DRPC) (GALE)

(1) Manages the IHS' overall regulations program and responsibilities, including determining the need for and developing plans for changes in regulations, developing or assuring the development of needed regulations, and maintaining the various regulatory planning processes; (2) serves as IHS liaison with the Office of the Federal Register (FR) on matters relating to the submission and clearance of documents for publication in the FR; (3) assures proper agency clearance and processing of FR documents; (4) informs management and program officials of regulatory activities of other federal agencies; (5) advises the OMS Director on such matters as regulations, related policy issues, and administrative support issues; (6) manages the retrieval and transmittal of information in response to requests received under the FOIA, Privacy Act, the Health Insurance Portability and Accountability Act (HIPAA) and the Health Information Technology for Economic and Clinical Health (HITECH) Act, in collaboration with the Public Affairs Staff; (7) ensures the security of sensitive and/or confidential information when responding to FOIA, Privacy Act, HIPAA, and HITECH Act issues; (8) advises the IHS Director regarding requests for IHS employees to serve as expert witnesses when IHS is not a party to the suit; (9) provides leadership and guidance for the IHS Records Management Program; (10) develops and recommends policies and procedures for the protection and disposition of IHS records and oversees the evaluation of records management activities in the IHS; (11) develops and implements a management control system for evaluation of records management functions IHS-wide; (12) maintains and updates various regulatory agendas; (13) manages, administers, implements and monitors the IHS's Paperwork Reduction Act and OMB information collection/activities; (14) provides guidance and technical assistance to IHS regarding information collection requirements and procedures for obtaining OMB approvals and extensions for IHS information collections; (15) coordinates the implementation and the application of Privacy Act, HIPAA, and HITECH Act requirements, including but not limited to HIPAA and HITECH Act compliance; (16) formulates, administers, and supports IHS-wide policies, delegations of authority, and organizations and functions development; (17) provides leadership, on behalf of the IHS Director, to functional area managers at IHS HQ in developing, modifying, and overseeing the implementation of IHS policies and procedures; (18) provides analysis, advisory, and assistance services to IHS managers and staff for the development, clearance, and filing of IHS directives and delegations of authority; and (19) serves as principal advisor and source for technical assistance for establishment or modification of organizational infrastructures, functions, and Standard Administrative Code configurations.

Office of Quality (OQ) (GAP)

(1) Advises the IHS Director on all aspects of assuring quality health care and develops and implements a strategic quality framework, integrating feedback and inputs from various levels of the organization and Tribal/Urban Indian organization partners; (2) oversees accreditation readiness activities and compliance with accreditation requirements for all IHS Direct Service facilities, to include periodic mock surveys and formal accreditation surveys; (3) conducts training and informational activities that promote skills development in quality improvement, quality assurance, and performance improvement; (4) routinely assesses and reports on patient satisfaction and experience using standardized survey instruments and processes, and facilitates improvement activities based on survey results; (5) coordinates and organizes participation of IHS facilities and staff in interagency quality improvement activities; (6) develops and monitors quality improvement and assurance metrics for health care delivery processes and outcomes, and advises other IHS Offices on quality improvement methods to improve support and outcomes of IHS administrative functions and processes; (7) develops programs to assess, address, and continuously improve systems and processes to improve health care quality, promote sustained compliance with relevant federal regulations and accreditation and professional standards, reduce and improve patient wait times and patient experience of care in all related health care settings; (8) consults on and provides guidance for standardization of health care delivery policies and protocols; (9) develops programs which promote patient safety management and reporting systems and processes, sentinel event investigations/root cause analysis, and clinical risk management; (10) supports credentialing of licensed independent practitioners via standardized methods and a uniform system; (11) supports patient-centered care processes, engagement of patients as partners in care, and patient activation through self-management support and involvement in service delivery improvements; (12) oversees and coordinates across IHS to establish and communicate IHS's Enterprise Risk Management (ERM) vision, culture, strategy, and framework; (13) oversees and coordinates the agency's efforts to establish and maintain proper internal controls and ensures that requirements are met under OMB Circular A-123; (14) facilitates enterprise-wide, integrated and comprehensive assessments across IHS's risk portfolio including leading the development of the agency's risk profile and guiding management's prioritization of risks across the agency; and (15) participates in cross-cutting issues and processes, including but not limited to, emergency preparedness/security, quality assurance, recruitment, budget formulation, self-determination issues, and resolution of audit findings as may be needed and appropriate.

Division of Quality Assurance (DQA) (GAPA)

(1) Develops and implements programs to promote sustained compliance with relevant federal regulations and accreditation and professional standards: Manages and coordinates mock surveys, promotes accreditation services coordination, provides accreditation resource management, provides survey corrective action plan development assistance and coordination, manages accreditation and certification survey reports, promotes multidisciplinary integration of survey readiness support activities, supports and promotes patient-centered care including Patient and Family Engagement, and promotes unification of Area Quality Managers and Service Unit Quality Assurance and Performance Improvement Officers; and (2) develops and implements programs to manage credentialing standards and policy, acquires and maintains centralized credentialing software system, promotes unification of credentialing officers/prime source verification officers, and promotes standardized training and support resources for credentialing officers.

Division of Patient Safety and Clinical Risk Management (DPSCRM) (GAPB)

(1) Develops and implements programs to promote patient safety including: Promoting a culture of safety, providing education, training and application, establishing and monitoring systems and metrics related to adverse events, establishing policy and guidelines to reduce adverse events, reducing all types of hospital acquired conditions through technological innovation, attention to detail, and implementation of high reliability science, and reduce avoidable hospital readmissions through enhanced transition-of-care planning and coordination, communication with primary care, and management of community-based resource delivery; (2) develops and implements programs to employ strategies that reduce the possibility of a specific loss, systematically gathers and utilizes data, implements proactive and reactive components to prevent losses and mitigates impact of losses, implements strategies to reduce the risk of harm to patients, liability exposure of health care providers, and financial loss to the IHS; and (3) develops and implements programs to perform incident identification and reporting, identifies and addresses potential tort claims, sequestering medical records, and investigation of medical adverse events, reviews patient grievances concerning quality of care, performs sentinel event/root cause analysis review and documentation, analyzes methods for dismissal of patients from care, reviews outside requests for medical records, responds to inquiries from governmental agencies, media, and advocacy groups, promotes compliance with regulatory, accreditation, and contractual agreements, examining issues related to determination of standards of care, represents IHS when claims are presented for review by the Malpractice Claims Review Panel chartered by the HHS, maintains case files and a malpractice claims database, provides case summaries, peer review, outcome information, and feedback of risk management recommendations, disseminates information about the review process, responds to outside organizations requesting tort claim-involvement histories on former employees, assists providers with Malpractice Claims Review Panel, and submits payment reports to the National Practitioner Data Bank.

Division of Innovation and Improvement (DII) (GAPC)

(1) Develops and implements programs to increase quality improvement capacity in the Indian health system including training health care staff and support team members in the Model for Improvement to rapidly test small scale changes at the local level for improvement in clinical processes to improve patient outcomes, experience of care, and resource utilization, builds capability in all staff to support improvement and ensure that patients, families, providers and care team members are involved in quality improvement activities, establishes and monitors metrics to evaluate improvement efforts and outcomes and ensures all staff members understand the metrics for success, optimizes use of health information technology and data to continuously improve performance, quality and service (Resource and Patient Management System and iCare), and improves patient and staff satisfaction with health care service delivery; (2) leads change management for practice transformation to embrace new models of care delivery and to enhance efficiency of the care delivery process, develops and implements programs to promote the implementation of the patient-centered medical home model of care including: Increase patient empanelment to facilitate care management and population health, promotes continuous and team-based healing relationships in which roles are well defined and tasks are distributed among multidisciplinary care team members to reflect the skills, abilities and credentials of the individual team members, fosters patient-centered interactions through expanded patient roles in decision making, health-related behaviors and self-management, reduces barriers to accessing care through more efficient service delivery processes, alternative care delivery methods, expanded access to the care team, and appointment scheduling flexibility; boosts care coordination through community resource linkages, integrating specialty care referral and coordination processes, assisting with referral-related processes, and assuring completion of all elements of care; and (3) develops and implements programs to promote a competent health care management staff to include coordinating training and support resources for standardized position descriptions and competencies for management staff, standardizing management tools and resources, provides leadership development and skill-building, and facilitates change management to support quality assurance and quality improvement.

Division of Enterprise Risk Management and Internal Controls (DERMIC) (GAPD)

(1) Coordinates with key HQ Offices to ensure cross-cutting agency strategic planning, ERM, and management of internal controls across IHS; (2) ensures IHS' portfolio of enterprise risks are appropriately and effectively managed by identifying accountable individual risk owners; (3) advises on risk management and provides expertise, advice, and assistance to the IHS Director, Office Directors, Area Directors and other key staff at both HQ and Area levels on ERM matters; (4) develops goals and objectives for the ERM program, integrates them with broader IHS-wide strategic goals/objectives, and tracks progress toward achieving them; (5) evaluates and monitors systems of internal control across IHS and uses the assessments of the internal control program as an integral part of ERM to effectively manage risks across IHS; and (6) coordinates the agency's ERM program and administers the agency's internal control program in compliance with the Federal Managers' Financial Integrity Act, OMB Circular No. A-123, and other applicable requirements.

Section GA-30, Indian Health Service—Delegations of Authority

All delegations of authority and re-delegations of authority made to IHS officials that were in effect immediately prior to this reorganization, and that are consistent with this reorganization, shall continue in effect pending further re-delegation.

Alex M. Azar II,
Secretary.

[FR Doc. 2018-27793 Filed 12-21-18; 11:15 am]

BILLING CODE 4165-17-P